DEPARTMENT OF THE INTERIOR

National Park Service

30-Day Notice of Intention To Request Clearance of Collection of Information; Opportunity for Public Comment

AGENCY: National Park Service, Interior.

ACTION: Notice and request for comments.

SUMMARY: Under the provisions of the Paperwork Reduction Act of 1995 and 5 CFR Part 1320, Reporting and Record Keeping Requirements, the National Park Service (NPS) invites public comments on an extension of a currently approved information collection (Office of Management and Budget (OMB) Control # 1024-0029).

The National Park Service published the 60-day Federal Register notice to solicit public comments on these information collection requirements on January 29, 2010 (75 FR 4838). The comment period closed on March 30, 2010. No comments were received on this notice.

DATES: Public comments on the Information Collection Request (ICR) will be accepted on or before August 9, 2010.

ADDRESSES: You may submit comments directly to the Desk Officer for the Department of the Interior (OMB #1024-0029), Office of Information and Regulatory Affairs, OMB, by fax at 202/395-5806, or by electronic mail at OIRA_DOCKET@omb.eop.gov. Please also send a copy of your comments to Ms. Jo A. Pendry, Chief, Commercial Services Program, National Park Service, 1849 C Street, NW., (2410), Washington, DC 20240, by fax at 202/371-2090, or electronically to jo_pendry@nps.gov.

FOR FURTHER INFORMATION CONTACT: Jo A. Pendry, phone: 202-513-7156 or at the address above. You are entitled to a copy of the entire ICR package free-of-charge.

SUPPLEMENTARY INFORMATION: Title: Concessioner Annual Financial Report, 36 CFR Part 51, Subpart I.

OMB Control Number: 1024-0029.

Expiration Date of Approval: July 31, 2010.

Type of Request: Extension of a currently approved information collection.

Affected Public: Businesses.

Respondent's Obligation: Required to obtain or retain a benefit.

Frequency of Collection: Annually.

Description of Need: The regulations at 36 CFR Part 51 primarily implement Title IV, Section 407 of the National Parks Omnibus Management Act of 1998 (Pub. L. 105-391 or the Act), which requires that the Secretary of the Interior exercise authority in a manner consistent with a reasonable opportunity for a concessioner to realize a profit on his operation as a whole commensurate with the capital invested and the obligations assumed. It also requires that franchise fees be determined with consideration to the opportunity for net profit in relation to both gross receipts and capital invested. The financial information being collected is necessary to provide insight into and knowledge of the concessioner's operation so that franchise fees can be determined in a timely manner and without an undue burden on the concessioner.

NPS has submitted a request to OMB to renew approval of the collection of information in 36 CFR Part 51, Subpart I regarding Annual Financial Reports. NPS is requesting a 3-year term of approval for this collection activity. An agency may not conduct or sponsor, and a person is not required to respond to, a collection of information unless it displays a currently valid OMB control number.

Estimate of Burden: Form 10-356—Approximately 16 hours per response. Form 10-356a—Approximately 4 hours per response.

Estimated Number of Respondents: Form 10-356—150 responses. Form 10-356a—350 responses.

Estimated Number of Responses per Respondent: One.

Estimated Total Annual Burden on Respondents: 3,800 hours.

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so. Please refer to OMB control number 1024-0029 in all correspondence.

Dated: July 2, 2010.
Cartina Miller,
NPS Information Collection Clearance Officer.

[FR Doc. 2010-16832 Filed 7-8-10; 8:45 am]

BILLING CODE 4312-53-P